GENERAL SERVICES ADMINISTRATION

[Notice-MG-2014-02; Docket No. 2014-0002; Sequence 20]

Office of Federal High-Performance Green Buildings; Green Building Advisory Committee; Notification of Upcoming Public Advisory Committee Meeting and Conference Calls

AGENCY: Office of Government-wide Policy, General Services Administration (GSA).

ACTION: Meeting Notice.

SUMMARY: Notice of this meeting and these conference calls is being provided according to the requirements of the Federal Advisory Committee Act, 5 U.S.C. App. 10(a)(2). This notice provides the agenda and schedule for the September 10, 2014 meeting of the Green Building Advisory Committee Meeting (the Committee) and the schedule for a series of conference calls, supplemented by Web meetings, for two task groups of the Committee. The meeting is open to the public and the site is accessible to individuals with disabilities. The conference calls are open for the public to listen in. Interested individuals must register to attend as instructed below under SUPPLEMENTARY INFORMATION.

DATES:

Meeting date: The meeting will be held on Tuesday, September 10, 2014, starting at 9:00 a.m. Eastern time, and ending no later than 4:00 p.m.

Task group conference call dates: The conference calls will be held according to the following schedule:

The Net Zero task group will hold conference calls every Tuesday from June 18, 2014 to July 30, 2014 from 2:00 p.m. to 3:00 p.m. eastern daylight time.

The Building Labels task group will hold conference calls every Monday from June 23, 2014 to Aug 4, 2014 from 11:00 a.m. to 12:00 p.m. eastern daylight time.

FOR FURTHER INFORMATION CONTACT: Ken Sandler, Designated Federal Officer, Office of Federal High-Performance Green Buildings, Office of Government-wide Policy, General Services Administration, 1800 F Street NW., Washington, DC 20405, telephone 202-219-1121 (Note: This is not a toll-free number). Additional information about the Committee, including meeting materials and updates on the task groups and their schedules, will be available on-line at http://www.gsa.gov/gbac.

SUPPLEMENTARY INFORMATION:

Procedures for Attendance and Public Comment: Contact Ken Sandler at ken.sandler@gsa.gov to register to attend the meeting and/or listen in to any or all of these conference calls. To attend the meeting and/or conference calls, submit your full name, organization, email address, and phone number. Requests to attend the September 10, 2014 meeting must be received by 5:00 p.m. eastern daylight time on Tuesday, September 2, 2014. Requests to listen in to the calls must be received by 5:00 p.m. Eastern time, Friday, June 20, 2014. (GSA will be unable to provide technical assistance to any listener experiencing technical difficulties. Testing access to the Web meeting site in advance of calls is recommended.)

Contact Ken Sandler at ken.sandler@gsa.gov to register to comment during the September 10 meeting's public comment period. Registered speakers/organizations will be allowed a maximum of 5 minutes each and will need to provide written copies of their presentations. Requests to comment at the meeting must be received by 5:00 p.m. eastern daylight time on Tuesday, September 2, 2014. Written comments also may be provided to Mr. Sandler at ken.sandler@gsa.gov by the same deadline.

Background: The Administrator of the U.S. General Services Administration established the Committee on June 20, 2011 (Federal Register/Vol. 76, No. 118) pursuant to Section 494 of the Energy Independence and Security Act of 2007 (42 U.S.C. 17123, or EISA). Under this authority, the Committee advises GSA on the rapid transformation of the Federal building portfolio to sustainable technologies and practices. The Committee focuses primarily on reviewing strategic plans, products and activities of the Office of Federal High-Performance Green Buildings and providing advice regarding how the Office can accomplish its mission most effectively.

The Net Zero task group will further develop the motion of a committee member to “Strengthen net zero energy commitments for new and existing federal buildings and federal leased buildings” into a final proposal to GSA. The Building Labels task group will develop the motion of a committee member to “Require building performance labels [for federal buildings], including current energy and environmental performance” into a final proposal to GSA.

The conference calls will focus on how the task groups can best refine these motions into consensus recommendations of each group to the full Committee, which will in turn decide whether to proceed with formal advice to GSA based upon these recommendations.

September 10, 2014 Meeting Agenda

• Welcome & Plans for Today's Meeting.

• New Member Introduction & Orientation.

• Overview of Committee Work and Election of Committee Chair.

• Net Zero Federal Buildings.

• Working Lunch.

• Federal Building Performance Labels.

• Putting Research Into Practice, and Steps to Adoption.

• Public Comment Period.

• Closing Comments.

Detailed agendas, background information and updates for the meeting and conference calls will be posted on GSA's Web site at http://www.gsa.gov/gbac.

Meeting Access: The Committee will convene its September 10, 2014 meeting at the U.S. General Services Administration building, Rooms 1459-1460, 1800 F Street NW., Washington, DC 20405, and the site is accessible to individuals with disabilities.

Dated: May 29, 2014.
Kevin Kampschroer,
Federal Director, Office of Federal High-Performance Green Buildings, General Services Administration.

[FR Doc. 2014-12978 Filed 6-3-14; 8:45 am]

BILLING CODE 6820-14-P